DEPARTMENT OF COMMERCE

Foreign-Trade Zones Board

[Docket No. 59-2003]

Foreign-Trade Zone 44—Trenton, New Jersey, Expansion of Manufacturing Authority and Removal of Restrictions, Subzones 44B, 44C and 44D, International Flavors & Fragrances, Inc. (Flavor and Fragrance Products), Hazlet, Union Beach and Dayton, NJ

An application has been submitted to the Foreign-Trade Zones Board (the Board) by the NJ Commerce & Economic Growth Commission, grantee of FTZ 44, requesting authority to expand the scope of manufacturing authority under zone procedures within Subzones 44B, 44C and 44D at the International Flavors & Fragrances, Inc. (IFF), facilities, located in Hazlet, Union Beach and Dayton, New Jersey. It was formally filed on November 4, 2003.

Subzones 44B, 44C and 44D were approved on 10/14/87 (FTZ Board Order #366). The FTZ Board approved the subzones subject to a time limit and reporting requirements. The Board extended the time limit for two additional time periods in 1992 and 1997. In April 2003, IFF was granted an 18-month temporary time extension to June 30, 2004, subject to the conditions of Board Order 366.

The present application for expansion of the scope of manufacturing authority seeks authority to update and expand the scope of IFF's manufacturing under zone procedures to encompass a wider range of products and requests that the time limit and reporting requirements be removed. The applicant also seeks to reorganize FTZ designation for the three subzones into one subzone to be designated as Subzone 44B. The applicant further requests that the acreage at the Union Beach site (Subzone 44C) be reduced from the original 200 acres to 155 acres, with the total acreage for IFF's subzone decreasing to 327 acres.

The application would expand the scope of authority to include a broader range of flavor and fragrance compounds, which are used by other manufacturers to impart flavor and fragrance to their finished products, including the following: fragrances and toiletries, soaps, detergents, household products, and beverages and food products. The application also requests that the scope of authority for sourcing of foreign components be extended to include the following items: vanilla beans, sunflower seed and other oils, petroleum oils from bituminous minerals, other than crude, hydrogen and hydrogen chloride, sulfuric acid, nitric acid, diphosphorus pentaoxide, ammonia, sodium hydroxide, artificial corundum, titanium oxides, chlorides, sulfides and sulfates, phosphinates, phosphonates and phosphates, carbonates, silicates, hydrogen peroxide, acyclic and cyclic hydrocarbons, halogenated derivatives of hydrocarbons, acyclic and cyclic alcohols, phenols, ethers, epoxides, aldehydes, ketones and quinones, saturated and unsaturated acyclic monocarboxylic acids, polycarboxylic and carboxylic acids, esters, amine-function compounds, oxygen-function amino-compounds, amino-alcohol-phenols, quaternary ammonium salts, carboxyimide-function compounds, nitrile-function compounds, organo-sulfur compounds, heterocyclic compounds, nucleic acids and their salts, provitamins and vitamins, glycosides, vegetable alkaloids, sugars, chemically pure (HTS 2940), other than sucrose, tanning extracts, essential oils, mixtures of odoriferous substances, beauty or make-up preparations, organic surface agents, artificial wares and prepared waxes, casein, albumins, peptones and their derivatives, enzymes, gum, wood or sulfate turpentine, rosin and resin acids, reaction initiators, industrial monocarboxylic fatty acids, polymers of ethylene, polymers of vinyl acetate, cellulose and its derivatives, natural polymers, fuel wood, and granules and powders of pig iron (2003 duty rate range: duty-free to 10%). The list represents an expanded scope of IFF's existing scope of sourcing authority.

FTZ procedures would continue to exempt IFF from Customs duty payments on the foreign components used in production for export. On its domestic sales and exports to NAFTA countries, the company can choose the lower duty rate that applies to finished products (duty-free to 10%) for the foreign inputs noted above. In accordance with Section 400.32(b)(1) of the Board's regulations, a member of the FTZ Staff has been designated examiner to investigate the application.

Public comment on the application is invited from interested parties. Submissions (original and three copies) shall be addressed to the Board's Executive Secretary at the following addresses:

1. Submissions via Express/Package Delivery Services: Foreign-Trade Zones Board, U.S. Department of Commerce, Franklin Court Building-Suite 4100W, 1099 14th Street, NW., Washington, DC 20005; or

2. Submissions via U.S. Postal Service: Foreign-Trade Zones Board, U.S. Department of Commerce, FCB-4100W, 1401 Constitution Ave., NW., Washington, DC 20230.

The closing period for their receipt is January 20, 2004. Rebuttal comments in response to material submitted during the foregoing period may be submitted during the subsequent 15-day period (to February 2, 2004).

A copy of the application will be available for public inspection at the Office of the Foreign-Trade Zone Board's Executive Secretary at address No. 1 listed above.

Dated: November 4, 2003.
Dennis Puccinelli,
Executive Secretary.

[FR Doc. 03-28804 Filed 11-18-03; 8:45 am]

BILLING CODE 3510-DS-P